DEPARTMENT OF THE INTERIOR

National Park Service

Notice of Intent To Prepare an Environmental Impact Statement

SUMMARY: The National Park Service in cooperation with the State of Alaska, Department of Transportation and Public Facilities; State of Alaska, Department of Natural Resources, Division of Parks and Outdoor Recreation; and the Matanuska-Susitna Borough, Alaska intend to prepare the South Denali Implementation Plan and accompanying Environmental Impact Statement (EIS). The 1986 General Management Plan for Denali National Park and Preserve called for the development of visitor services and access to the South Denali region, and the 1997 South Side Denali Development Concept Plan/EIS identified a site within the western portion of Denali State park for new visitor facilities. The Implementation Plan will study new site locations and provide more detailed information on the proposed facilities.

The purpose of the plan is to implement the 1997 South Side Plan and to evaluate specific locations for proposed visitor and administrative facilities, including a nature center, access road, trail systems, campsites, picnic shelters, employee housing and administrative facilities. In addition to siting the facilities, the plan will identify and evaluate the design, capacity and function of proposed development. Options and opportunities to enhance recreation and access throughout the South Denali region will also be evaluated. The study area for the Implementation Plan encompasses the Petersville Road corridor, the southern boundary area of Denali National Park and Preserve, the western section of Denali State Park and the Peters Hills. The goals are to provide a quality visitor experience while protecting resource values in Denali State Park and Denali National Park and Preserve and preserving the quality of life for residents in nearby communities, and to enhance recreational and access opportunities for a wide variety of visitors including Alaskans, and independent and package tour travelers. Alternatives under consideration for this project focus on variations in location and extent of new visitor opportunities and facilities and access options in the areas mentioned above:

1. No new construction of facilities or access. (No-Action alternative).

2. Construct facilities in the Peters Hills at the southern boundary of Denali State Park and provide access to the site from the Petersville Road (Proposed Action).

3. Construct facilities at the Tokositna site identified in the 1997 South Side plan, and provide access to the site by extending the Petersville Road.

Other facility locations and access options within the study area may be identified for alternative evaluation based on the public comments received during public scoping.

Scoping: The planning team requests input from interested federal and state agencies, local governments, groups, organizations, recreational users, and the public. Written and verbal scoping comments are being solicited . Further information on this planning process will be available through public scoping meetings, press releases, and newsletters. Public scoping meetings will be held in Anchorage, Wasilla, Susitna Valley, McKinley Village, and Fairbanks Alaska in early 2004. Specific dates, times, and locations of scoping meetings will be announced. An agency scoping meeting will be held in Anchorage, Alaska in early 2004.

Our practice is to make comments, including names and home addresses of respondents, available for public review during regular business hours. Individual respondents may request that we withhold their home address from the administrative record, which we will honor to the extent allowable by law. If you wish us to withhold your name and/or address, you must state this prominently at the beginning of your comment. We will not, however, consider anonymous comments. We will make all submissions from organizations or businesses, and from individuals identifying themselves as representatives or officials of organizations or businesses, available for public inspection in their entirety.

DATES: Comments concerning the scope of this project should be received on or before April 13, 2004. The draft EIS is projected to be available in late 2004. Comments may be sent to the address or Web site provided below.

FOR FURTHER INFORMATION CONTACT: Miriam Valentine, Park Planner, at the Talkeetna Ranger Station, P.O. Box 588, Talkeetna, AK 99676, (907) 733-9102, or at the following Web site: http://parkplanning.nps.gov.

SUPPLEMENTARY INFORMATION: The implementation plan will be based on existing federal and state plans including the 1986 Denali National Park and Preserve General Management Plan, the 1997 National Park Service South Side Denali Development Concept Plan. the 1989 Denali State Park Master Plan, the 1998 Matanuska-Susitna Borough Petersville Road Corridor Management Plan, and consideration of the Governor-chartered South Denali Citizens Consultation Committee report (1999).

The 1986 Denali National Park and Preserve General Management Plan calls for the development of visitor services and access to the South Denali region to take advantage of the area's dramatically sculptured landscapes and mountain-oriented recreational opportunities. This plan recommends the project be planned and developed cooperatively with the state of Alaska and with involvement from the private sector.

The 1997 South Side Denali Development Concept Plan is a regional cooperative plan formulated by a team representing the National Park Service, State of Alaska, Matanuska-Susitna Borough, Denali Borough, Ahtna, Inc., and Cook Inlet Region, Inc. In the Record of Decision the NPS decided to construct visitor facilities at the western edge of Denali State Park near the end of an upgraded and extended Petersville Road. Developments would include a visitor center, parking, up to 50 campsites, a picnic area, hiking trails, information and safety signage, and associated facilities.

The 1999 South Denali Citizens Consultation Committee Final Report recommended modifying the development concepts in the South Side Denali Development Concept Plan while remaining consistent with its goals and objectives: to provide resident and visitor facilities throughout the south side of the Alaska Range to meet a wide range of needs and interests of the region's diverse user groups. The committee recommended that a nature center be constructed within the Denali State Park boundary and avoid an extensive upgrade of the Petersville Road through the canyon, thereby minimizing impacts to mining and backcountry uses.

The 1989 Denali State Park Master Plan recommends facility construction in the South Denali region: “Tremendous views of the Mt. McKinley massif and the diversity of surrounding areas make the park an appropriate location for a “South Denali Visitor Complex”. The visitor complex will provide a focal point and staging area for the Denali State Park interpretive program.”

One of the objectives of the 1998 Matanuska-Susitna Borough Petersville Road Corridor Management Plan is to enhance the visitor experience of Petersville Road in conjunctions with facility development in the South Denali region. Recommendations include interpretive panels, informational kiosks, vegetative buffers, and retention of scenic qualities along the road corridor.

Dated: January 28, 2004.
Thomas J. Ferranti,
Acting Regional Director, Alaska.

[FR Doc. 04-3250 Filed 2-12-04; 8:45 am]

BILLING CODE 4310-PW-P